DEPARTMENT OF ENERGY

Federal Energy Regulatory Commission

Combined Notice of Filings

Take notice that the Commission has received the following Natural Gas Pipeline Rate and Refund Report filings:

Filings Instituting Proceedings

Docket Numbers: RP13-459-000.

Applicants: Trailblazer Pipeline Company LLC.

Description: Report Filing: 2018 Penalty Revenues Refund Report.

Filed Date: 3/25/19.

Accession Number: 20190325-5152.

Comments Due: 5 p.m. ET 4/8/19.

Docket Numbers: RP19-873-000.

Applicants: Bobcat Gas Storage.

Description: Compliance filing Bobcat Order 587-Y (Docket RM96-1-041) Compliance Filing to be effective 8/1/2019.

Filed Date: 3/25/19.

Accession Number: 20190325-5020.

Comments Due: 5 p.m. ET 4/8/19.

Docket Numbers: RP19-874-000.

Applicants: Egan Hub Storage, LLC.

Description: Compliance filing Egan Hub Order 587-Y (Docket RM96-1-041) Compliance Filing to be effective 8/1/2019.

Filed Date: 3/25/19.

Accession Number: 20190325-5021.

Comments Due: 5 p.m. ET 4/8/19.

Docket Numbers: RP19-875-000.

Applicants: East Tennessee Natural Gas, LLC.

Description: Compliance filing East Tennessee Order 587-Y (Docket RM96-1-041) Compliance Filing to be effective 8/1/2019.

Filed Date: 3/25/19.

Accession Number: 20190325-5022.

Comments Due: 5 p.m. ET 4/8/19.

Docket Numbers: RP19-876-000.

Applicants: Saltville Gas Storage Company L.L.C.

Description: Compliance filing Saltville Order 587-Y (Docket RM96-1-041) Compliance Filing to be effective 8/1/2019.

Filed Date: 3/25/19.

Accession Number: 20190325-5023.

Comments Due: 5 p.m. ET 4/8/19.

Docket Numbers: RP19-877-000.

Applicants: Ozark Gas Transmission, L.L.C.

Description: Compliance filing Ozark Order 587-Y (Docket RM96-1-041) Compliance Filing to be effective 8/1/2019.

Filed Date: 3/25/19.

Accession Number: 20190325-5024.

Comments Due: 5 p.m. ET 4/8/19.

Docket Numbers: RP19-878-000.

Applicants: Steckman Ridge, LP.

Description: Compliance filing Steckman Ridge Order 587-Y (Docket RM96-1-041) Compliance Filing to be effective 8/1/2019.

Filed Date: 3/25/19.

Accession Number: 20190325-5025.

Comments Due: 5 p.m. ET 4/8/19.

Docket Numbers: RP19-879-000.

Applicants: Southern Natural Gas Company, L.L.C.

Description: Compliance filing Order No. 587-Y Compliance Filing to be effective 8/1/2019.

Filed Date: 3/25/19.

Accession Number: 20190325-5026.

Comments Due: 5 p.m. ET 4/8/19.

Docket Numbers: RP19-880-000.

Applicants: Southern LNG Company, L.L.C.

Description: Compliance filing Order No. 587-Y Compliance Filing to be effective 8/1/2019.

Filed Date: 3/25/19.

Accession Number: 20190325-5027.

Comments Due: 5 p.m. ET 4/8/19.

Docket Numbers: RP19-881-000.

Applicants: Elba Express Company, L.L.C.

Description: Compliance filing Order No. 587-Y Compliance Filing to be effective 8/1/2019.

Filed Date: 3/25/19.

Accession Number: 20190325-5037.

Comments Due: 5 p.m. ET 4/8/19.

Docket Numbers: RP19-882-000.

Applicants: Texas Gas Transmission, LLC.

Description: § 4(d) Rate Filing: Amendments to Neg Rate Agmts (IPL 34015, 34016) to be effective 3/25/2019.

Filed Date: 3/25/19.

Accession Number: 20190325-5042.

Comments Due: 5 p.m. ET 4/8/19.

Docket Numbers: RP19-883-000.

Applicants: Midcontinent Express Pipeline LLC.

Description: Compliance filing Compliance Filing Pursuant to Order No. 587-Y to be effective 8/1/2019.

Filed Date: 3/25/19.

Accession Number: 20190325-5046.

Comments Due: 5 p.m. ET 4/8/19.

Docket Numbers: RP19-884-000.

Applicants: Maritimes & Northeast Pipeline, L.L.C.

Description: Compliance filing MNUS Order 587-Y (Docket RM96-1-041) Compliance Filing to be effective 8/1/2019.

Filed Date: 3/25/19.

Accession Number: 20190325-5068.

Comments Due: 5 p.m. ET 4/8/19.

Docket Numbers: RP19-885-000.

Applicants: Transcontinental Gas Pipe Line Company, LLC.

Description: Compliance filing Order No. 587-Y Compliance (NAESB 3.1) to be effective 8/1/2019.

Filed Date: 3/25/19.

Accession Number: 20190325-5070.

Comments Due: 5 p.m. ET 4/8/19.

Docket Numbers: RP19-886-000.

Applicants: Northern Border Pipeline Company.

Description: § 4(d) Rate Filing: Compressor Usage Surcharge 2019 to be effective 5/1/2019.

Filed Date: 3/25/19.

Accession Number: 20190325-5088.

Comments Due: 5 p.m. ET 4/8/19.

Docket Numbers: RP19-887-000.

Applicants: Texas Eastern Transmission, LP.

Description: Compliance filing TETLP Order 587-Y (Docket RM96-1-041) Compliance Filing to be effective 8/1/2019.

Filed Date: 3/25/19.

Accession Number: 20190325-5092.

Comments Due: 5 p.m. ET 4/8/19.

Docket Numbers: RP19-888-000.

Applicants: Trailblazer Pipeline Company LLC.

Description: § 4(d) Rate Filing: Fuel Tracker 2019 to be effective 5/1/2019.

Filed Date: 3/25/19.

Accession Number: 20190325-5114.

Comments Due: 5 p.m. ET 4/8/19.

Docket Numbers: RP19-889-000.

Applicants: Texas Eastern Transmission, LP.

Description: Compliance filing TETLP OFO March 2019 Penalty Disbursement Report.

Filed Date: 3/25/19.

Accession Number: 20190325-5132.

Comments Due: 5 p.m. ET 4/8/19.

Docket Numbers: RP19-890-000.

Applicants: Bison Pipeline LLC.

Description: Compliance filing Company Use Gas Annual Report 2019.

Filed Date: 3/25/19.

Accession Number: 20190325-5133.

Comments Due: 5 p.m. ET 4/8/19.

Docket Numbers: RP19-891-000.

Applicants: Pine Needle LNG Company, LLC.

Description: Compliance filing Pine Needle Order No. 587-Y Compliance (NAESB 3.1) to be effective 8/1/2019.

Filed Date: 3/25/19.

Accession Number: 20190325-5151.

Comments Due: 5 p.m. ET 4/8/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 26, 2019.
Nathaniel J. Davis, Sr.,
Deputy Secretary.

[FR Doc. 2019-06226 Filed 3-29-19; 8:45 am]

BILLING CODE 6717-01-P